DEPARTMENT OF DEFENSE

Office of the Secretary

Submission for OMB Review; Comment Request

ACTION: Notice.

The Department of Defense has submitted to OMB for clearance, the following proposal for collection of information under the provisions of the Paperwork Reduction Act (44 U.S.C. Chapter 35).

Dates: Consideration will be given to all comments received by November 17, 2004.

Title, Form, and OMB Number: Registration for Scientific and Technical Information Services; DD Form 1540; OMB Control Number 0704-0264.

Type of Request: Reinstatement.

Number of Respondents: 7,979.

Responses Per Respondent: 1.

Annual Responses: 7,979.

Average Burden Per Response: 10 minutes.

Annual Burden Hours: 1,330.

Needs and Uses: The date that the Defense Technical Information Center handles is controlled, either because of distribution limitations, or security classification. For this reason, all potential users are required to register for service. DoD Instruction 3200.14, Principles and Operational Parameters of the DoD Scientific and Technical Information Program, mandates the registration procedure. Federal Government agencies and their contractors are required to complete the DD Form 1540, Registration for Scientific and Technical Information Services. The contractor community completes a separate DD Form 1540 for each contract or grant, and registration is valid until the contract expires.

Affected Public: Business or other for-profit, not-for-profit institutions, Federal Government, and state, local or tribal government.

Frequency: On occasion.

Respondent's Obligation: Required to obtain or retain benefits.

OMB Desk Officer: Ms. Jacqueline Zeiher.

Written comments and recommendations on the proposed information collection should be sent to Ms. Zeiher at the Office of Management and Budget, Desk Officer for DoD, Room 10236, New Executive Office Building, Washington, DC 20503.

DOD Clearance Officer: Mr. Robert Cushing.

Written requests for copies of the information collection proposal should be sent to Mr. Cushing, WHS/ESCD/Information Management Division, 1225 South Clark Street, Suite 504, Arligntron, VA 22202-4326.

Dated: October 8, 2004.
Patricia L. Toppings,
Alternate OSD Federal Register Liaison Officer, Department of Defense.

[FR Doc. 04-23245 Filed 10-15-04; 8:45 am]

BILLING CODE 5001-06-M